Proclamation 9244 of March 30, 2015

Education and Sharing Day, U.S.A., 2015

By the President of the United States of America

A Proclamation

In every child—every girl dreaming big dreams and every boy hungry to make something of himself—there exists limitless potential. Our young people are the problem-solvers, thinkers, and visionaries of tomorrow who will change the world as we know it, and they deserve the chance to fulfill their enormous promise, no matter who they are or where they live. A good education can open the door to opportunity, and it should be within the reach of all who yearn for the chance to develop their minds and talents. Today, we celebrate the transformative power of education and honor a man who inspired a passion for learning among a generation of students.

Rabbi Menachem Mendel Schneerson, the Lubavitcher Rebbe, dedicated his life to promoting education as the cornerstone of humanity. A tireless advocate for youth around the world, he believed that “as long as there is still one child that does not receive an adequate education, we can neither be satisfied nor slacken our efforts.” In an era where a woman's education was not valued the same as a man's, the Rebbe worked to tear down barriers that stood in the way of girls who wanted to learn. He established a Jewish organization for women and directed his teachings of service and scholarship equally to young girls and boys. He was even known to write, “There must be a girl!” on educational materials that depicted only boys.

Because of leaders like the Rebbe, we have made great strides toward achieving quality education for all—but his legacy is not only a story of progress, it is also a call to remember his words and take up this unfinished task. Today, 62 million girls around the world who should be in school are not. Children who deserve an education, who have the power to change the course of history, face unacceptable obstacles because of their gender, the circumstances of their birth, or the customs of their society.

If we want to strengthen families and communities, bolster economic growth, and promote stability worldwide, we must work to increase the number of girls in school and empower all children with the resources they need to reach for a brighter future. This is not only a humanitarian issue; it is also critical to our security and global economic prosperity. That is why First Lady Michelle Obama and I recently launched a new initiative called Let Girls Learn. As part of this effort, my Administration will be supporting hundreds of community-driven projects around the world that will build on investments we have made and successes we have achieved in global primary school education. At the same time, we are making it clear to any country who wants to work with us that they must address the challenges preventing young women from attending and completing school—such as fees, threats of violence, and the false belief that girls are not worthy of an education.

We are committed to making a global and generational impact, but Let Girls Learn is also about reminding Americans about the importance of high-quality education for all. As we help lift up children worldwide, my Administration will continue to fight for every young person here at home. We will not let up on our efforts to deliver the best possible education to all people in the United States, including our work to expand access to high-quality preschool to every child and provide our Nation's classrooms with the best technology. And we are expanding our strategy to make higher education more affordable by promoting a Student Aid Bill of Rights and calling for 2 years of free community college for anyone who is willing to work for it.

Across the globe, girls have pushed forward to pursue an education in the face of poverty and threats to their safety. They are bold, ambitious, and undeterred by immense challenges. Today, we are called to meet their resolve with a commitment worthy of their character. On Education and Sharing Day, U.S.A., we recognize educators, pioneers of change, and all those who have unlocked the spark of something extraordinary within a child, and we rededicate ourselves to building a world where the destiny of every young person is limited only by the size of their dreams and the power of their imagination.

NOW, THEREFORE, I, BARACK OBAMA, President of the United States of America, by virtue of the authority vested in me by the Constitution and the laws of the United States, do hereby proclaim March 31, 2015, as Education and Sharing Day, U.S.A. I call upon all Americans to observe this day with appropriate ceremonies and activities.

IN WITNESS WHEREOF, I have hereunto set my hand this thirtieth day of March, in the year of our Lord two thousand fifteen, and of the Independence of the United States of America the two hundred and thirty-ninth.

[FR Doc. 2015-07784

Filed 4-1-15; 11:15 am]

Billing code 3295-F5